DEPARTMENT OF THE INTERIOR

Bureau of Land Management

[WY-100-1310-DB]

Notice of Availability of the Record of Decision for the Final Environmental Impact Statement, Jonah Infill Drilling Project, Sublette County, WY

AGENCY: Bureau of Land Management, Interior.

ACTION: Notice of Availability (NOA) of the Record of Decision (ROD) for the Final Environmental Impact Statement (FEIS) for Jonah Infill Drilling Project, Sublette County, Wyoming.

SUMMARY: In accordance with the National Environmental Policy Act of 1969, the Bureau of Land Management (BLM) announces the availability of the ROD for the Jonah Infill Drilling Project, Sublette County, Wyoming.

ADDRESSES: The ROD will be available electronically on the following Web site: http://www.wy.blm.gov/nepa/nepadocs.htm. Copies of the ROD are also available for public inspection at the following BLM office locations:

• Bureau of Land Management, Wyoming State Office, 5353 Yellowstone Road, Cheyenne, Wyoming 82003.

• Bureau of Land Management, Pinedale Field Office, 432 East Mill Street, Pinedale, Wyoming 82941.

FOR FURTHER INFORMATION CONTACT: Mike Stiewig, Project Leader, Pinedale Field Office, P.O. Box 768, 432 East Mill Street, Pinedale, Wyoming 82941, telephone (307) 367-5300.

SUPPLEMENTARY INFORMATION: This ROD addresses approximately 30,500 acres of public lands administered by the BLM Pinedale Field Office, Sublette County, Wyoming. Copies of the ROD have been sent to affected Federal, State, and local government agencies and interested parties.

Dated: February 2, 2006.
Robert A. Bennett,
State Director.

[FR Doc. 06-2433 Filed 3-13-06; 8:45 am]

BILLING CODE 4310-22-P